COMMISSION ON CIVIL RIGHTS

Renewal of the U.S. Virgin Islands Advisory Committee

AGENCY: U.S. Commission on Civil Rights.

ACTION: Notice of renewal.

SUMMARY: The U.S. Commission on Civil Rights (Commission) is publishing this notice to announce the renewal of the U.S. Virgin Islands Advisory Committee (Committee). The Commission has determined that the renewal of the Committee is necessary and in the public's interest, and the Commission has consulted with the General Services Administration's Committee Management Secretariat regarding the Committee's renewal.

FOR FURTHER INFORMATION CONTACT: David Mussatt, Committee Management Officer, at 312-353-8311 or dmussatt@usccr.gov.

SUPPLEMENTARY INFORMATION: Pursuant to section 14(a)(2)(A) of the Federal Advisory Committee Act (Pub. L. 92-463), the Commission is giving notice of the charter renewal for the Committee. The Committee provides advice and recommendations to the Commission on civil rights matters within U.S. Virgin Islands. The Committee is composed of representatives who represent the political viewpoints of the Commissioners. The diversity of the Committee ensures the requisite range of views and expertise necessary to discharge its responsibilities. For Committee-related documents, visit the Committee page on the Commission's website at https://www.usccr.gov/advisory-committees/us-virgin-islands

Dated: May 15, 2025.
David Mussatt,
Supervisory Chief, Regional Programs Unit.

[FR Doc. 2025-09014 Filed 5-19-25; 8:45 am]

BILLING CODE P